DEPARTMENT OF HOUSING AND URBAN DEVELOPMENT

[Docket No. FR-5870-D-01]

Consolidated Delegation of Authority for the Office of Housing—Federal Housing Administration (FHA)

AGENCY: Office of the Secretary, HUD.

ACTION: Notice of revocation and delegation of authority.

SUMMARY: Section 7(d) of the Department of Housing and Urban Development (HUD) Act, as amended, authorizes the Secretary to delegate functions, powers and duties as the Secretary deems necessary. In this delegation of authority, the Secretary delegates authority to the Assistant Secretary for Housing—Federal Housing Commissioner, the Principal Deputy Assistant Secretary for Housing, the General Deputy Assistant Secretary for Housing and the Associate General Deputy Assistant Secretary for Housing, for the administration of certain Office of Housing programs. This delegation revokes and supersedes all prior delegations of authority, including the delegation published on June 20, 2012.

DATES: Effective upon date of signature.

FOR FURTHER INFORMATION CONTACT: Laura M. Marin, Associate General Deputy Assistant Secretary, Office of the Assistant Secretary for Housing—Federal Housing Commissioner, Department of Housing and Urban Development, 451 7th Street SW., Room 9106, Washington, DC 20410; telephone number 202-708-2601. (This is not a toll-free number.) Persons with hearing or speech impairments may call HUD's toll-free Federal Relay Service at 800-877-8339.

SUPPLEMENTARY INFORMATION: This notice supersedes the prior consolidated delegation of authority dated June 20, 2012. First, authority previously delegated to the Assistant Secretary for Housing—Federal Housing Commissioner (Assistant Secretary) and General Deputy Assistant Secretary for Housing—Deputy Federal Housing Commissioner (General Deputy Assistant Secretary), with regard to regulation of government-sponsored enterprises (GSEs) under the Federal Housing Enterprises Financial Safety and Soundness Act of 1992 (12 U.S.C. 4501 et seq.) (FHEFSSA), is no longer included in the delegation to the aforesaid official. Except for certain fair housing oversight requirements retained by HUD, programmatic regulation of the GSEs was transferred to the Federal Housing Finance Agency by the Housing and Economic Recovery Act of 2008 (Pub. L. 110-289, approved July 30, 2008). The Secretary's authority for those oversight requirements has been delegated in a separate document to the Assistant Secretary for Fair Housing. Second, this delegation has been updated (in sections B through E) to include legislative authority enacted since the 2006 publication of consolidated delegations for the Office of Housing and includes a new overall category for risk management and regulatory functions and authorities. With respect to regulatory authorities, as of July 21, 2011, the Dodd-Frank Wall Street Reform and Consumer Protection Act (Pub. L. 111-203, approved July 21, 2010) transferred from the Department of Housing and Urban Development to a new Consumer Financial Protection Bureau, all powers and duties vested in HUD to carry out the Real Estate Settlement Procedures Act of 1974 (12 U.S.C. 2601-2617); the Secure and Fair Enforcement for Mortgage Licensing Act of 2008 (Title V of Pub. L. 110-289, approved July 30, 2008); and the Interstate Land Sales Full Disclosure Act (15 U.S.C. 1701 et seq.).

Nevertheless, HUD may be responsible for certain actions undertaken prior to the transfer date but not completed, or for other residual duties after the transfer of regulatory functions. As a result, this notice contains delegations of authority under the statutes cited above. Finally, the general delegation below includes the position of the Associate General Deputy Assistant Secretary for Housing.

Section A. General Delegation of Authority

Unless otherwise stated, the Assistant Secretary, the Principal Deputy Assistant Secretary, the General Deputy Assistant Secretary and the Associate General Deputy Assistant Secretary for Housing are each delegated the power and authority of the Secretary of HUD with respect to all housing programs and functions, including, but not limited to, those listed below in Sections B through F, with authority to redelegate to officials of the Department, unless otherwise specified. Only the Assistant Secretary for Housing is delegated the authority to issue a final regulation or a Notice of Funding Availability (NOFA). The authority delegated herein to the Assistant Secretary, Principal Deputy Assistant Secretary and General Deputy Assistant Secretary for Housing includes the authority to waive regulations and statutes.

Section B. Multifamily, Healthcare, and Other Authority Delegated

The authority of the Secretary of HUD with respect of Office of Housing's multifamily housing, healthcare, and certain other programs and functions that are authorized under the following:

(1) Titles I, II, V, VI, VII, VIII, IX, and XI of the National Housing Act (12 U.S.C. 1701 et seq.) in exercising the power and authority delegated under this section;

(2) Section 202 of the Housing Act of 1959, as such section existed prior to the enactment of the Cranston-Gonzalez National Affordable Housing Act (12 U.S.C. 1701q note), as amended by section 811 of the American Homeownership and Economic Opportunity Act of 2000 (Pub. L. 106-561);

(3) Section 202 of the Housing Act of 1959 (12 U.S.C. 1701q), as amended by Subtitle A of Title VIII of the National Affordable Housing Act of 1990, with respect to the provision of capital advances and rental housing assistance for supportive housing for the elderly, as amended by Subtitle C of the American Homeownership and Economic Opportunity Act of 2000 (Pub. L. 106-561);

(4) The Supportive Housing for Elderly Act of 2010 (Pub. L. 111-372);

(5) Section 101 of the Housing and Urban Development Act of 1965 (12 U.S.C. 1701s); with respect to the Rent Supplement program for disadvantaged persons, including the authority to administer contracts and requirements for rent supplements;

(6) Section 8 Housing assistance under the United States Housing Act of 1937 (42 U.S.C. 1437 et seq.), including the authority delegated under Executive Order 11196 to approve the undertaking of any annual contribution, grant, or loan, or any agreement or contract for any annual contribution, grant or loan;

(7) Section 808 of the National Affordable Housing Act (Pub. L. 101-625), and sections 671, 672, 674, 676, and 677 of the Housing and Community Development Act of 1992 (42 U.S.C. 13631), with respect to the provision of service coordinators in federally assisted housing;

(8) Sections 201, 202, 203, and 204 of the Housing and Community Development Amendments of 1978, and amendment contained in Title I of the Multifamily Housing Property Disposition Reform Act of 1994 (Pub. L. 103-233, 12 U.S.C. 1701 note);

(9) The Housing Development Grant Program, pursuant to Section 17 of the United States Housing Act of 1937 (42 U.S.C. 1437o);

(10) Section 4(d) of the Department of Housing and Urban Development Act (42 U.S.C. 3533), which provides the Assistant Secretary is the Assistant to the Secretary who shall be responsible for providing information and advice to nonprofit organizations desiring to sponsor housing projects assisted under programs administered by the Department;

(11) The authority of the Secretary under the Revolving Fund for Liquidating Programs (12 U.S.C. 1701q) to manage, repair, lease, and otherwise take all actions necessary to protect the financial interest of the Secretary in properties as to which the Secretary is mortgagee-in-possession; and to manage, repair, complete, remodel and convert, administer, dispose of, lease, sell, or exchange for cash or credit at public or private sale; and to pay annual sums in lieu of taxes on, obtain insurance against loss on, and otherwise deal with properties as to which the Secretary has acquired title based on a loan made under the former Section 312 Rehabilitation Loan Program;

(12) The function of the Secretary under Section 7(i)(3) of the Department of Housing and Urban Development Act (42 U.S.C. 3535(i)(3)), concerning the sale, exchanges, or lease of real or personal property and the sale or exchange of securities or obligations with respect to any multifamily project;

(13) Title IV of the Housing and Community Development Amendments of 1978 (42 U.S.C. 8001 et seq.);

(14) The authority to endorse any checks or drafts in payment of insurance losses on which the United States of America, acting by and through the Secretary or the Secretary's successors or assigns, is a payee (joint or otherwise) in connection with the disposition of the government's interest in property or lease of such property;

(15) Section 2 of the Housing and Urban Development Act of 1968 (12 U.S.C. 3701-3717);

(16) The Multifamily Mortgage Foreclosure Act of 1981 (12 U.S.C. 3701-3717);

(17) The authority to act as an Attesting Officer with authorization to cause the seal of the Department of Housing and Urban Development to be affixed to such documents as may require its application and to certify that a copy of any book, record, paper, microfilm, electronic document, or any other document is a true copy of that in the files of the Department;

(18) The Congregate Housing Services Program under Section 802 of the National Affordable Housing Act (42 U.S.C. 8011);

(19) The HOPE for Homeownership of Multifamily Units Program under Title IV, Subtitle B, of the National Affordable Housing Act (42 U.S.C. 12701, 12871);

(20) The Multifamily Risk Sharing Programs pursuant to Section 542 of the Housing and Community Development Act of 1992 (Pub. L. 102-550, October 28, 1992);

(21) Title II of the Housing and Community Development Act of 1987 (12 U.S.C. 1715 note), and the Emergency Low-Income and Housing Preservation Act of 1987 (ELIHPA), as each is amended by Subtitle A of Title VI of the National Affordable Housing Act (12 U.S.C. 4101 et seq.) and the Low-Income Housing Preservation and Resident Homeownership Act of 1990 (LIHPRHA), as further amended by Title III of the Housing and Community Development Act of 1992 (12 U.S.C. 4141 et seq.);

(22) Section 811 of Subtitle B of Title VIII of the National Affordable Housing Act of 1990 (42 U.S.C. 8013), with respect to the provision of capital advances and rental housing assistance for supportive housing for persons with disabilities as amended by Subsection C of Title VIII of the American Homeownership and Economic Opportunity Act of 2000 (Pub. L. 111-374);

(23) Section 581 of the National Affordable Housing Act of 1990 (Pub. L. 101-625) and Chapter 2, Subtitle C of Title V of the Anti-Drug Abuse Act of 1988 (42 U.S.C. 1190 et seq.), relating to the federally assisted low-income housing drug elimination program;

(24) The Portfolio Reengineering Demonstration Program authorized under Sections 211 and 212 of the Departments of Veterans Affairs and Housing and Urban Development, and Independent Agencies Appropriations Act, 1997 (Pub. L. 104-204, 110 Stat. 2874, approved September 26, 1997), as reauthorized and amended by Section 522(b) of the Departments of Veterans Affairs and Housing and Urban Development, and Independent Agencies Appropriations Act, 1998 (Pub. L. 105-65, 111 Stat. 1344, 1446, approved October 27, 1997) (42 U.S.C. 1437f note); all provisions of the Mark-to-Market Extensions Act of 2001 (Title VI of Pub. L. 107-116); and all provisions of the Multifamily Assisted Housing Reform and Affordability Act (MAHRA) (42 U.S.C. 1437f note);

(25) The authority to take actions necessary to ensure that participants in HUD programs under the jurisdiction of the Assistant Secretary for Housing comply with the regulations, rules, and procedures of the Department including, but not limited to, imposing limited denials of participation;

(26) The Rental Assistance Program authorized by Section 236 of the National Housing Act (12 U.S.C. 1715z-1);

(27) The Rural Health Care Capital Access Act of 2006 (Pub. L. 109-240);

(28) The Preservation Approval Process Improvement Act of 2007 (Pub. L. 110-35);

(29) The FHA Loan Limit Adjustment Act of 2003, as contained in Section 302 of Public Law 108-186;

(30) Sections 2832, 2834, and 2835(b) of Title VIII, Subtitle B, of the Housing Economic Recovery Act of 2008 (Pub. L. 110-289);

(31) The management and disposition of HUD-owned multifamily projects and HUD-held mortgages and the provision of grants and loans, as provided under Section 204(a) of the Departments of Veterans Affairs and Housing and Urban Development, and Independent Agencies Appropriations Act, 1997 (Pub. L. 104-204) (12 U.S.C. 1715z-11a);

(32) Section 3 of the Housing and Urban Development Act of 1968 (12 U.S.C. 1701u);

(33) The authority to foreclose mortgages, sell foreclosed properties, and modify terms of contract pursuant to Section 7(i) of the Department of Housing and Urban Development Act;

(34) The authority to establish fees and charges pursuant to Section 7(j) of the Department of Housing and Urban Development Act (42 U.S.C. 3535(j));

(35) The authority to accept voluntary services pursuant to Section 7(k) of the Department of Housing and Urban Development Act (42 U.S.C. 3535(k));

(36) The authority to carry out the provisions of the Legacy Act of 2003 (Pub. L. 108-186);

(37) The authority to appoint a Special Assistant for Cooperative Housing pursuant to section 102(h) of the Housing Amendments of 1955 (12 U.S.C. 1715e note); and

(38) The Self-Help Housing Property Disposition Program authorized under the Federal Property and Administrative Services Act of 1949, as amended by Public Housing 105-50, approved October 6, 1997 (40 U.S.C. 550(f)).

Section C. Single Family and Other Authority Delegated

The authority of the Secretary of HUD with respect to the Office of Housing's single family housing and certain programs, including regulatory programs, and functions, and the authority with respect to mortgagee activities (including Title I lenders) for single family programs that are authorized under the following:

(1) Title I, II, V, VI, VIII and IX of the National Housing Act (12 U.S.C. 1701 et seq.);

(2) The HOPE for Homeowners Act of 2008, as contained in Division A, Title IV, of the Housing and Economic Recovery Act of 2008 (Pub. L. 110-289), as amended by section 202 of the Helping Families Save their Homes Act of 2009 (Pub. L. 111-22);

(3) Section 203 of the Helping Families Save their Homes Act of 2009 (Pub. L. 111-22);

(4) The authority to sell, exchange, or lease real or personal property and to sell or exchange securities of obligation with respect to any single-family property pursuant to Section 7(i)(3) of the Department of Housing and Urban Development Act;

(5) The authority to endorse any checks or drafts in payment of insurance losses on which the United States of America, acting by and through the Secretary or his/her successors or assigns, is a payee (joint or otherwise), in connection with the disposition of the government's interest in property or lease of such property;

(6) The authority of the Secretary under the Revolving Fund for Liquidating Programs (12 U.S.C. 1701q) to manage, repair, lease, and otherwise take all actions necessary to protect the financial interest of the Secretary in mortgagee-in-possession and to manage, repair, complete, remodel and convert, administer, dispose of, lease, sell, or exchange for cash or credit at public or private sale, pay annual sums in lieu of taxes on, obtain insurance against loss on, and otherwise deal with properties as to which the Secretary has acquired title based on a loan under the former Section 312 Rehabilitation Loan Program;

(7) The Nehemiah Housing Opportunity grant program in Sections 609-614 of the Housing and Community Development Act of 1987 (12 U.S.C. 1715e);

(8) The authority to take actions necessary to ensure that participants in HUD programs comply with regulations, rules, and procedures of the Department including, but not limited to, imposing limited denials of participation;

(9) The authority to foreclose mortgages, sell foreclosed properties, and modify terms of contract pursuant to Section 7(i) of the Department of Housing and Urban Development Act;

(10) The authority to establish fees and charges pursuant to Section 7(j) of the Department of Housing and Urban Development Act (42 U.S.C. 3535(j));

(11) The authority to accept voluntary services pursuant to Section 7(k) of the Department of Housing and Urban Development Act (42 U.S.C. 3535(k)); and

(12) The authority to implement and administer the Emergency Homeowners' Loan Program with the Emergency Homeowners' Relief Act, as amended (12 U.S.C. 2701 et seq.), in cooperation with HUD's Office of Policy Development and Research and HUD's Office of the Chief Financial Officer.

Section D. Housing Counseling and Other Authority Delegated

The authority of the Secretary of HUD with respect to the Office of Housing Counseling and certain programs, including regulatory programs, and functions, and the authority with respect to Housing Counseling approval and certification activities that are authorized under the following:

(1) The authority to carry out sections 1451(a) and (b) of the Dodd-Frank Wall Street Reform and Consumer Protection Act of 2010; and

(2) Section 106 of the Housing and Urban Development Act of 1968 (12 U.S.C. 1701x).

Section E. Financial Operations and Management Controls Authority Delegated

(1) The authority to provide financial management for programs administered by the Assistant Secretary;

(2) The authority to formulate and develop financial management and internal control policies; to oversee compliance by the Office of Housing and Federal Housing Administration (FHA) with OMB Circulars A-123 (Management and Accountability Control), A-127 (Financial Management Systems), and A-130 (Federal Information Resources) as they apply to Housing and FHA financial and program operations; establish and supervise the development and execution of uniform Office of Housing and FHA policies, principles, and procedures necessary for financial management; to issue directions and implement these policies and modifications to existing products;

(3) The authority to maintain the FHA General Ledger and the chart of accounts of the FHA funds;

(4) The authority to establish and maintain appropriate financial management controls over Office of Housing and FHA programs; to provide technical guidance to organizational elements under the Assistant Secretary in the field of accounting and fiscal matters; to track Office of Housing and FHA financial activities against budget and business plan; to coordinate the development and maintenance of integrated financial management systems needed for accounting and management of housing and FHA programs;

(5) The authority to prepare reports; to report to the Assistant Secretary, other offices, the Department's Chief Financial Officer, and HUD regional and field staff on the financial condition of FHA mortgage insurance programs; to publish and annual FHA report reflecting prior year accomplishments and the audited financial statements; and to prepare internal reports on the financial condition of Office of Housing and FHA programs;

(6) The authority to develop and maintain integrated financial management systems, and to direct studies and audits of the accounting and financial information and systems functions;

(7) The authority to prepare and execute policies and systems to measure the financial and actuarial soundness of Office of Housing and FHA programs; and to ensure the conduct of an independent annual audit of the FHA program financial statements;

(8) The authority to obtain reports, information, advice, and assistance in carrying out assigned functions; and to develop financial management information to assist in developing budget, financial, accounting, and cost-accounting information on a timely basis;

(9) The authority to direct the investment of money held in the various Office of Housing/FHA insurance funds that is not needed for current operations, in bonds or other obligations of the United States, or in bonds or other obligations whose principal interest is guaranteed by the United States; and

(10) The authority to borrow funds from the Department of the Treasury to facilitate credit reform programs.

Section F. Risk Management and Regulatory Functions—Authority Delegated

(1) To establish, impose, and maintain all appropriate risk management policies, activities, and controls for programs carried out by the Assistant Secretary, including analyzing the risk management and evaluation functions, performing front-end risk assessments prior to implementation of programs, and implementing the regulatory requirement contained in section 941(b) of the Dodd-Frank Wall Street Reform and Consumer Protection Act of 2010 relating to risk retention regulations;

(2) The Interstate Land Sales Full Disclosure Act, Title XIV of the Housing and Urban Development Act of 1968 (15 U.S.C. 1701 et seq.), as proscribed by sections 1062, 1063, and 1064 of the Dodd-Frank Wall Street Reform and Consumer Protection Act of 2010 (Pub. L. 111-203);

(3) The Real Estate Settlement Procedures Act of 1974 (12 U.S.C. 2601 et seq.), as proscribed by sections 1062, 1063, and 1064 of the Dodd-Frank Wall Street Reform and Consumer Protection Act of 2010 (Pub. L. 111-203);

(4) The Secure and Fair Enforcement for Mortgage Licensing Act of 2008, as contained in Division A, Title V, of the Housing and Economic Recovery Act of 2008 (Pub. L. 110-289), and proscribed by sections 1062, 1063, and 1064 of the Dodd-Frank Wall Street Reform Act of 2010 (Pub. L. 111-203);

(5) All matters and requirements of the National Manufactured Housing Construction and Safety Standards Act of 1974 and Title VI of the Housing and Community Development Act of 1974 (42 U.S.C. 5401-5426).

Section G. Authority Excepted

Authority excepted from this delegation of authority from the Secretary of Housing and Urban Development to the Assistant Secretary, the Principal Deputy Assistant Secretary, the General Deputy Assistant Secretary and the Associate General Deputy Assistant Secretary for Housing is the authority to sue and be sued.

Section H. Authority to Redelegate

In accordance with a written redelegation of authority, the Assistant Secretary, the Principal Deputy Assistant Secretary, the General Deputy Assistant Secretary and the Associate General Deputy Assistant Secretary for Housing may further redelegate specific authority. Redelegated authority to Housing Deputy Assistant Secretaries or other ranking Housing officials does not supersede the authority of the Assistant Secretary as designee of the Secretary. The redelegations published in 77 FR 37237, 77 FR 37240, 77 FR 37241, 77 FR 37248, 77 FR 37250, 77 FR 37252 and the redelegation published on January 3, 2013 at 78 FR 317 remain in effect, including amendments thereto.

Section I. Authority Superseded

The previous delegations of authority from the Secretary of HUD to the Assistant Secretary for Housing are hereby revoked and superseded by this delegation of authority, including the previous delegation of authority for Housing published on June 20, 2012 at 77 FR 37234.

Section J. Conclusive Evidence of Authority

The execution of any instrument or document, which purports to relinquish or transfer the Secretary's right to, title to, or interest in, real or personal property, by an employee of the Department of Housing and Urban Development or other official or officials to whom the Secretary's authority under section 204(g) of the National Housing Act is delegated under this notice shall be conclusive evidence of the authority of such employee to act for the Secretary in executing such instrument or document.

Authority: Section 7(d), Department of Housing and Urban Development Act (42 U.S.C. 3535(d)).

Dated: April 13, 2015.
Julián Castro,
Secretary of Housing and Urban Development.

[FR Doc. 2015-08946 Filed 4-17-15; 8:45 am]

BILLING CODE 4210-67-P